DEPARTMENT OF THE TREASURY

Submission for OMB Review; Comment Request

December 8, 2005.

The Department of Treasury has submitted the following public information collection requirement(s) to OMB for review and clearance under the Paperwork Reduction Act of 1995, Public Law 104-13. Copies of the submission(s) may be obtained by calling the Treasury Bureau Clearance Officer listed. Comments regarding this information collection should be addressed to the OMB reviewer listed and to the Treasury Department Clearance Officer, Department of the Treasury, Room 11000, 1750 Pennsylvania Avenue, NW., Washington, DC 20220.

DATES: Written comments should be received on or before January 13, 2006 to be assured of consideration.

Financial Crimes Enforcement Network (FinCEN)

OMB Number: 1506-0019.

Type of Review: Revision.

Title: Suspicious Activity Report by Securities and Futures Industries and 31 CFR 103 17(d) and 103.19(d).

Form: FinCEN form 101.

Description: Treasury is requiring certain securities broker-dealers, future commission merchants, and introducing brokers in commodities to file suspicious activity reports.

Respondents: Business or other for-profit.

Estimated Total Reporting Burden: 16,800 hours.

Clearance Officer: Russell Stephenson (202) 354-6012, Department of the Treasury, Financial Crimes Enforcement Network, P.O. Box 39, Vienna, VA 22183.

OMB Reviewer: Alexander T. Hunt (202) 395-7316, Office of Management and Budget, Room 10235, New Executive Office Building, Washington, DC 20503.

Michael A. Robinson,
Treasury PRA Clearance Officer.

[FR Doc. E5-7342 Filed 12-13-05; 8:45 am]

BILLING CODE 4810-02-P